DEPARTMENT OF DEFENSE

Department of the Air Force

[USAF-2007-0027]

Proposed Collection; Comment Request

AGENCY: Department of the Air Force, DoD.

ACTION: Notice.

In compliance with Section 3506(c)(2)(A) of the Paperwork Reduction Act of 1995, the Officer Procurement Branch, Air Force Personnel Center, announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 26, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Officer Procurement Branch (DPSIPR), Air Force Personnel Center, 550 C Street West, Suite 10, ATTN: Ms Adriana Bazan, Randolph AFB, TX 78150-4712, or call HQ AFPC/DPSIPR at 210-565-3711.

Title; Associated Form; and OMB Number: Application for Appointment as Reserve of the Air Force or USAF Without Component, Air Force (AF) Form 24, OMB Number 0701-0096.

Needs and Uses: The information collection requirement is necessary for providing information to determine if applicant meets established qualifications for appointment as a Reserve (Air National Guard of the United States (ANGUS) and United States Air Force Reserve (USAFR)) or in the USAF without component. Use of the Social Security Number (SSN) is necessary to make positive identification of an applicant and his or her records.

Affected Public: Individuals or households.

Annual Burden Hours: 1966.

Number of Respondents: 5899.

Responses Per Respondent: 1.

Average Burden Per Response: 20 minutes.

Frequency: On occasion.

SUPPLEMENTARY INFORMATION:

Summary of Information Collection

This is an information collection from persons applying for appointment as a member of the Reserve of the Air Force or an Air Force member without a component and entry into active duty. The information contained on AF Form 24 supports the Air Force as it applies to direct appointment (procurement) programs for civilian and military applicants. It provides necessary information to determine if an applicant meets established qualifications for appointment to fill authorized USAFR and ANGUS position vacancies and active duty requirements. Eligibility requirements are outlined in Air Force Instruction 36-2005.

Dated: December 19, 2007.
Patricia L. Toppings,
Alternate OSD Federal Register Liaison Officer, Department of Defense.

[FR Doc. E7-25166 Filed 12-27-07; 8:45 am]

BILLING CODE 5001-06-P